DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Southeast Region Gulf of Mexico Red Snapper IFQ Program.

OMB Control Number: 0648-0551.

Form Number(s): NA.

Type of Request: Regular submission (revision and extension of a current information collection).

Number of Respondents: 487.

Average Hours Per Response: Transfer of shares, 2 minutes; dealer landing transaction report, notification of landing, transfer of allocation, 5 minutes; landing correction form, 3 minutes; online account application, 10 minutes.

Burden Hours: 982.

Needs and Uses: National Marine Fisheries Service (NMFS) Southeast Region manages the U.S. fisheries of the exclusive economic zone (EEZ) off the South Atlantic, Caribbean, and Gulf of Mexico under the Fishery Management Plans (FMP) for each Region. The Regional Fishery Management Councils prepared the FMPs pursuant to the Magnuson-Stevens Fishery Conservation and Management Act. NMFS manages the red snapper fishery in the waters of the Gulf of Mexico under the Reef Fish FMP. The Individual Fishing Quota (IFQ) program was implemented to reduce the overcapacity in the fishery and end the derby fishing conditions that resulted from that overcapitalization.

The recordkeeping and reporting requirements at 50 CFR part 622 form the basis for this collection of information. NMFS Southeast Region requests information from fishery participants. This information, upon receipt, results in an increasingly more efficient and accurate database for management and monitoring of the fisheries of the EEZ of Gulf of Mexico.

Dealer, shareholder and fishermen annual reporting requirements have been removed, as the information can be obtained through other current reporting requirements. Also, the burden for online account activation has been removed, as all eligible shareholders have activated their accounts; however, there is a new burden for account renewal. A one-time percentage of share ownership has been removed, as it is now covered under another OMB Control No. as part of a permit application.

Affected Public: Business or other for-profit organizations.

Frequency: On occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: August 18, 2011.
Gwellnar Banks,
Management Analyst, Office of the Chief Information Officer.

[FR Doc. 2011-21558 Filed 8-23-11; 8:45 am]

BILLING CODE 3510-22-P